SMALL BUSINESS ADMINISTRATION

Data Collection Available for Public Comments

ACTION: 60-day notice and request for comments.

SUMMARY: The Small Business Administration (SBA) intends to request extension, without change, of the currently approved information collection described below from the Office of Management and Budget (OMB). The Paperwork Reduction Act (PRA) of 1995, 44 U.S.C Chapter 35 requires federal agencies to publish a notice in the Federal Register concerning each proposed collection of information before submission to OMB, and to allow 60 days for public comment in response to the notice. This notice complies with such requirement.

DATES: Submit comments on or before July 28, 2014.

ADDRESSES: Send all comments to Nicholas Walker, Management Analyst, Office of Entrepreneurial Development, Small Business Administration, 409 3rd Street SW., Room 6043, Washington, DC 20416. Comments must be received by the deadline in order to be considered.

FOR FURTHER INFORMATION CONTACT: Nicholas Walker, Management Analyst, 202-205-6637 edmis@sba.gov or Curtis B. Rich, Management Analyst, 202-205-7030 curtis.rich@sba.gov.

SUPPLEMENTARY INFORMATION: This information collection, which consists of the Counseling Information Form and the Management Training Report, is used by SBA's Office of Entrepreneurial Development (OED) to collect information from the Agency's resource partners, including: Small Business Development Centers, SCORE, and Women's Business Centers, on the training and counseling provided to existing or potential small business owners through SBA funded grants, cooperative agreements or contracts. The information may be uploaded to SBA through the Entrepreneurial Development Management Information System (EDMIS). OED uses the information to facilitate its management and oversight of each OED program or activity funded by SBA and to assist in evaluating the impact of each program or activity on the small business community. SBA is not proposing any changes to this collection of information at this time, rather, as stated above, the pending request will seek OMB's approval to continue the use of the existing approved information collection beyond the current expiration date of September 30, 2014. Implementation of the changes proposed in the Federal Register notice published on May 3, 2013 at 78 FR 26099 has been postponed until a later date.

Solicitation of Public Comments

SBA is requesting comments on (a) whether the collection of information is necessary for the agency to properly perform its functions; (b) whether the burden estimates are accurate; (c) whether there are ways to minimize the burden, including through the use of automated techniques or other forms of information technology; and (d) whether there are ways to enhance the quality, utility, and clarity of the information.

Summary of Information Collection

Title: Entrepreneurial Development Management Information System (EDMIS) Counseling Information Form & Management Training Report.

OMB Control Number: 3245-0324.

Description of Respondents: SBA resource partners, including Small Business Development Centers (SBDCs), Women's Business Centers (WBCs), and SCORE, Form Numbers: Form 641 (Counseling Information Form) and Form 888 (Management Training Report).

Estimated Annual Responses: 1.4 million.

Estimated Annual Hour Burden: 160,000.

Curtis Rich,
Management Analyst.

[FR Doc. 2014-12123 Filed 5-23-14; 8:45 am]

BILLING CODE 8025-01-P